INTERNATIONAL TRADE COMMISSION

[Investigation No. 337-TA-943]

Certain Wireless Headsets; Institution of Investigation Pursuant to 19 U.S.C. 1337

AGENCY: U.S. International Trade Commission.

ACTION: Notice.

SUMMARY: Notice is hereby given that a complaint was filed with the U.S. International Trade Commission on December 8, 2014, under section 337 of the Tariff Act of 1930, as amended, 19 U.S.C. 1337, on behalf of One-E-Way, Inc. of Pasadena, California. A supplement was filed on December 24, 2014. The complaint alleges violations of section 337 based upon the importation into the United States, the sale for importation, and the sale within the United States after importation of certain wireless headsets by reason of infringement of certain claims of U.S. Patent No. 7,865,258 (“the `258 patent”) and U.S. Patent No. 8,131,391 (“the `391 patent”). The complaint further alleges that an industry in the United States exists or is in the process of being established as required by subsection (a)(2) of section 337.

The complainant requests that the Commission institute an investigation and, after the investigation, issue a limited exclusion order and cease and desist orders.

ADDRESSES: The complaint, except for any confidential information contained therein, is avaiable for inspection during official business hours (8:45 a.m. to 5:15 p.m.) in the Office of the Secretary, U.S. International Trade Commission, 500 E Street SW., Room 112, Washington, DC 20436, telephone (202) 205-2000. Hearing impaired individuals are advised that information on this matter can be obtained by contacting the Commission's TDD terminal on (202) 205-1810. Persons with mobility impairments who will need special assistance in gaining access to the Commission should contact the Office of the Secretary at (202) 205-2000. General information concerning the Commission may also be obtained by accessing its internet server at http://www.usitc.gov. The public record for this investigation may be viewed on the Commission's electronic docket (EDIS) at http://edis.usitc.gov.

FOR FURTHER INFORMATION CONTACT: The Office of Unfair Import Investigations, U.S. International Trade Commission, telephone (202) 205-2560.

SUPPLEMENTARY INFORMATION: Scope of Investigation: Having considered the complaint, the U.S. International Trade Commission, on January 7, 2015, ordered that—

(1) Pursuant to subsection (b) of section 337 of the Tariff Act of 1930, as amended, an investigation be instituted to determine whether there is a violation of subsection (a)(1)(B) of section 337 in the importation into the United States, the sale for importation, or the sale within the United States after importation of certain wireless headsets by reason of infringement of one or more of claims 3, 4, 8, 10, and 11 of the ‘258 patent and claims 1-6 and 10 of the ‘391 patent, and whether an industry in the United States exists or is in the process of being established as required by subsection (a)(2) of section 337;

(2) For the purpose of the investigation so instituted, the following are hereby named as parties upon which this notice of investigation shall be served:

(a) The complainant is:

One-E-Way, Inc., 3016 E. Colorado Boulevard #70848, Pasadena, CA 91107

(b) The respondents are the following entities alleged to be in violation of section 337, and are the parties upon which the complaint is to be served:

Sony Corporation, 1-7-1 Konan, Minato-ku, Tokyo 108-0075, Japan

Sony Corporation of America, 550 Madison Avenue, New York, NY 10022

Sony Electronics, Inc., 16530 Via Esprillo, San Diego, CA 92127

Sennheiser Electronic GmbH & Co. KG, Am Labor 1, 30900 Wedemark, Germany

Sennheiser Electronic Corporation, 1 Enterprise Drive, Old Lyme, CT 06371

BlueAnt Wireless Pty, Ltd., 658 Church Street, Building 1, Level 4, Richmond, VIC 3121, Australia

BlueAnt Wireless, Inc., 125 South Wacker Drive, Suite 300, Chicago, IL 60606

Creative Technology Ltd., 31 International Business Park, #03-01, Lobby C, Creative Resource, Singapore 609921

Creative Labs, Inc., 1901 McCarthy Boulevard, Milpitas, CA 95035

Beats Electronics, LLC, 8501 Steller Drive, Culver City, CA 90232

Beats Electronics International Ltd., The Malt House South, Grand Canal Quay, Dublin 2, Ireland

Jawbone, Inc., 99 Rhode Island Street, 3rd Floor, San Francisco, CA 94103,

GN Netcom A/S d/b/a Jabra, Lautrupbjerg 7, Ballerup, København, 2750, Denmark

(c) The Office of Unfair Import Investigations, U.S. International Trade Commission, 500 E Street SW., Suite 401, Washington, DC 20436; and

(3) For the investigation so instituted, the Chief Administrative Law Judge, U.S. International Trade Commission, shall designate the presiding Administrative Law Judge.

Responses to the complaint and the notice of investigation must be submitted by the named respondents in accordance with section 210.13 of the Commission's Rules of Practice and Procedure, 19 CFR 210.13. Pursuant to 19 CFR 201.16(e) and 210.13(a), such responses will be considered by the Commission if received not later than 20 days after the date of service by the Commission of the complaint and the notice of investigation. Extensions of time for submitting responses to the complaint and the notice of investigation will not be granted unless good cause therefor is shown.

Failure of a respondent to file a timely response to each allegation in the complaint and in this notice may be deemed to constitute a waiver of the right to appear and contest the allegations of the complaint and this notice, and to authorize the administrative law judge and the Commission, without further notice to the respondent, to find the facts to be as alleged in the complaint and this notice and to enter an initial determination and a final determination containing such findings, and may result in the issuance of an exclusion order or a cease and desist order or both directed against the respondent.

Authority: The authority for institution of this investigation is contained in section 337 of the Tariff Act of 1930, as amended, and in section 210.10 of the Commission's Rules of Practice and Procedure, 19 CFR 210.10 (2014).

By order of the Commission.
Issued: January 8, 2015.
Lisa R. Barton,
Secretary to the Commission.

[FR Doc. 2015-00325 Filed 1-12-15; 8:45 am]

BILLING CODE 7020-02-P